FEDERAL COMMUNICATIONS COMMISSION

[Report No. 2464]

Petitions for Reconsideration and Clarification of Action in Rulemaking Proceedings

February 9, 2001.

Petitions for Reconsideration and Clarification have been filed in the Commission's rulemaking proceedings listed in this Public Notice and published pursuant to 47 CFR Section 1.429(e). The full text of these documents are available for viewing and copying in Room CY-A257, 445 12th Street, SW., Washington, DC or may be purchased from the Commission's copy contractor, ITS, Inc. (202) 857-3800. Oppositions to these petitions must be filed by March 8, 2001. See Section 1.4(b)(1) of the Commission's rules (47 CFR 1.4(b)(1)). Replies to an opposition must be filed within 10 days after the time for filing oppositions have expired.

Subject: Implementation of Sections 309(j) and 337 of the Communications Act of 1934 as Amended (WT Docket No. 99-87, RM-9332, RM-9405, RM-9705); Promotion of Spectrum Efficient Technologies on Certain Part 90 Frequencies; Establishment of Public Service Radio Pool in the Private Mobile Frequencies Below 800 MHz; and Petition for Rule Making of the American Mobile Telecommunications Association.

Number of Petitions Filed: 14.

Subject: Revision of the Commission's Rules To Ensure Compatibility with Enhanced 911 Emergency Calling Systems (CC Docket No. 94-102).

Number of Petitions Filed: 1.

Federal Communications Commission.
Magalie Roman Salas,
Secretary.

[FR Doc. 01-4214 Filed 2-20-01; 8:45 am]

BILLING CODE 6712-01-M